DEPARTMENT OF DEFENSE

Department of the Air Force

Department of Defense Commercial Air Carrier Quality and Safety Review Program

AGENCY: Department of the Air Force, DoD.

ACTION: Notice.

In compliance with Section 3506(c)(2)(A) the Paperwork Reduction Act of 1995, the Office of the Secretary of Defense announces the proposed reinstatement of a public collection and seeks public comment on the provisions thereof. Comments are invited on: (a) whether the proposed collection of information is necessary for the proper performance of the functions of the agency, including whether the information shall have practical unity; (b) the accuracy of the agency's estimate of the burden proposed information collection; (c) ways to enhance the quality, utility, and clarity of the information to be collected; and (d) ways to minimize the burden of the information collection on respondents, including through the use of automated collection techniques or other forms of information technology.

DATES: Consideration will be given to all comments by November 6, 2000.

ADDRESSES: Written comments and recommendations on the proposed information collection should be sent to the DoD air Carrier and Analysis Office (HQ AMC/DOB), 402 Scott Drive, Unit 3A1, Scott AFB, IL 62225-5302, ATTN: Mr. Larry Elliott.

FOR FURTHER INFORMATION CONTACT: To request more information on this proposed information collection or to obtain a copy of the proposal and associated collection instrument, please write to the above address or call HQ AMC/DOB at 618-229-3092.

Title, Associated Form, and OMB Number: DoD Statement of Intent, AMC Form 207, OMB Number 0701-0137.

Needs and Uses: The information collection requirement is necessary to assist the overall evaluation of commercial aircraft to provide quality, safe, and reliable airlift service when procured by the Department of Defense (DoD).

Affected Public: Businesses or other for profit.

Annual Burden Hours: 1,230.

Number of Respondents: 30.

Responses per Respondent: 1.

Average Burden for Respondent: 41 Minutes.

Frequency: On occasion.

SUPPLEMENTARY INFORMATION:

Summary of Information Collection

Respondents are commercial air carriers desiring to supply airlift services to DoD. AMC 207 provides vital information from the carriers needed to determine their eligibility to participate in the DoD Air Transportation Program.

Janet A. Long,
Air Force Federal Register Liaison Officer.

[FR Doc. 00-22573 Filed 9-1-00; 8:45 am]

BILLING CODE 5001-05-U